DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Dr. Jenish Patel, Ph.D., 240-669-2894; jenish.patel@nih.gov. Licensing information and copies of the U.S. patent application listed below may be obtained by communicating with the indicated licensing contact at the Technology Transfer and Intellectual Property Office, National Institute of Allergy and Infectious Diseases, 5601 Fishers Lane, Rockville, MD, 20852; tel. 301-496-2644. A signed Confidential Disclosure Agreement will be required to receive copies of unpublished patent applications.

SUPPLEMENTARY INFORMATION: Technology description follows.

Universal Influenza Virus Probes for Enrichment of Influenza Viral Sequences

Description of Technology:

This technology is a set of influenza virus enrichment probes developed to increase the sensitivity of sequence-based, universal detection of all influenza viruses. This universal influenza enrichment probe set contains a unique set of 46,953 biotin-labeled, RNA probes, each 120 base-pairs long, that can be used to enrich for any influenza sequences without prior knowledge of type or subtype. This probe set can capture and enrich influenza viral sequences selectively and effectively in a variety of samples, such as clinical samples with degraded nucleotides or samples containing very low amounts of influenza virus, thus making it a valuable tool for influenza virus diagnoses and surveillance.

This technology is available for licensing for commercial development in accordance with 35 U.S.C. 209 and 37 CFR part 404, as well as for further development and evaluation under a research collaboration.

Potential Commercial Applications:

• Influenza diagnostics; influenza surveillance

Competitive Advantages:

• Highly sensitive detection of influenza viruses

• Detection of any influenza viruses in a variety of samples

Development Stage:

• In vitro Testing

Inventors: Yongli Xiao, Ph.D., (NIAID), Jeffrey Taubenberger, Ph.D., (NIAID), and Zong-Mei Sheng, Ph.D. (NIAID)

Publications: Xiao Y, et al. Design and validation of a universal influenza virus enrichment probe set and its utility in deep sequence analysis of primary cloacal swab surveillance samples of wild birds. Virology, 2018, Nov; 524:182-191 [PMID 30212665]

Intellectual Property: HHS Reference No. E-032-2018/0—US-01 Patent Application No. 62/611,734 filed December 29, 2017.

Licensing Contact: Jenish Patel, Ph.D., 240-669-2894; jenish.patel@nih.gov

Collaborative Research Opportunity: The National Institute of Allergy and Infectious Diseases (NIAID) is also seeking statements of capability or interest from parties interested in collaborative research, such as from bio-analytic research groups to develop rapid influenza monitoring, diagnostic, and surveillance devices and biotechnology companies to formulate and test influenza next generation sequencing kits for challenging influenza infected samples, for example zoonotic infections of influenza A virus subtypes differing from currently circulating human influenza viruses or in mixed infections. NIAID will consider executing a Confidentiality Agreement with a prospective collaborator to facilitate receipt of a Capability Statement if requested. For collaboration opportunities, please contact Jenish Patel, Ph.D., 240-669-2894; jenish.patel@nih.gov.

Dated: October 19, 2018.
Suzanne M. Frisbie,
Deputy Director, Technology Transfer and Intellectual Property Office, National Institute of Allergy and Infectious Diseases.

[FR Doc. 2018-24468 Filed 11-7-18; 8:45 am]

BILLING CODE 4140-01-P